DEPARTMENT OF ENERGY

Federal Energy Regulatory Commission

[Project No. 2611-093]

Hydro Kennebec, LLC; Notice of Availability of Environmental Assessment

In accordance with the National Environmental Policy Act of 1969 and the Federal Energy Regulatory Commission's (Commission or FERC) regulations, 18 CFR part 380, Commission staff reviewed Hydro Kennebec, LLC's request for a temporary variance of the license for the Hydro-Kennebec Hydroelectric Project No. 2611 and has prepared an Environmental Assessment (EA) for the project.¹ The licensee proposes to install 3-foot-high flashboards at the project instead of the normal 6-foot-high flashboards to lower the reservoir elevation by 3 feet (elevation of 78 feet U.S. Geological Survey Datum) to allow for repairs to a spillway gate. The temporary variance would begin immediately and last until the gate is repaired, but no later than December 31, 2025. The Hydro-Kennebec Project is located on the Kennebec River in Kennebec and Somerset counties, Maine and does not occupy federal land.

¹ The unique identification number for documents relating to this environmental review is EAXX-019-20-000-1746012887.

The EA contains Commission staff's analysis of the potential environmental effects of the proposed temporary variance, alternatives to the proposed action, and concludes that the temporary variance, with appropriate environmental protective measures, would not constitute a major federal action that would significantly affect the quality of the human environment.

The EA may be viewed on the Commission's website at https://www.ferc.gov using the “elibrary” link. Enter the docket number (P-2611) in the docket number field to access the document. For assistance, contact FERC Online Support at FERCOnlineSupport@ferc.gov or toll-free at 1-866-208-3676, or for TTY, (202) 502-8659.

You may also register online at https://www.ferc.gov/docs-filing/esubscription.asp to be notified via email of new filings and issuances related to this or other pending projects. For assistance, contact FERC Online Support.

The Commission's Office of Public Participation (OPP) supports meaningful public engagement and participation in Commission proceedings. OPP can help members of the public, including landowners, Tribal members, and others, access publicly available information and navigate Commission processes. For public inquiries and assistance with making filings such as interventions, comments, or requests for rehearing, the public is encouraged to contact OPP at (202) 502-6595 or OPP@ferc.gov.

For further information, contact Steven Sachs at 202-502-8666 or steven.sachs@ferc.gov.

Dated: May 22, 2025.
Debbie-Anne A. Reese,
Secretary.

[FR Doc. 2025-09672 Filed 5-28-25; 8:45 am]

BILLING CODE 6717-01-P